DEPARTMENT OF LABOR

Employment and Training Administration

[TA-W-40,472]

Romart, Inc., Scranton, PA; Amended Certification Regarding Eligibility To Apply for Worker Adjustment Assistance

In accordance with Section 223 of the Trade Act of 1974 (19 U.S.C. 2273) the Department of Labor issued a Certification of Eligibility to Apply for Worker Adjustment Assistance on April 29, 2002, applicable to workers of Romart, Inc., located in Scranton, Pennsylvania. The notice was published in the Federal Register on May 17, 2002 (67 FR 35143).

At the request of the State agency, the Department reviewed the certification for workers of the subject firm. The review of the TAA petition investigation file revealed that workers of Romart, Inc., Scranton, Pennsylvania, were previously certified eligible to apply for worker adjustment assistance under petition number TA-W-35,232, which expired December 1, 2000.

In order to avoid an overlap in worker group coverage, the Department is amending this certification to change the impact date from October 24, 2000 to December 2, 2000.

The amended notice applicable to TA-W-40,472 is hereby issued as follows:

All workers of Romart, Inc., Scranton, Pennsylvania, engaged in employment related to the production of of men's and boys' dress and sport coats and other formal wear, who became totally or partially separated from employment on or after December 2, 2000, through April 29, 2004, are eligible to apply for adjustment assistance under Section 223 of the Trade Act of 1974.

Signed at Washington, DC, this 7th day of June, 2002.
Linda G. Poole,
Certifying Officer, Division of Trade Adjustment Assistance.

[FR Doc. 02-15748 Filed 6-20-02; 8:45 am]

BILLING CODE 4510-30-P